DEPARTMENT OF ENERGY

Federal Energy Regulatory Commission

[Project No. 13291-000]

NSC Smelter, LLC; Notice of Preliminary Permit Application Accepted for Filing and Soliciting Comments, Motions To Intervene and Competing Applications

October 28, 2008.

On September 19, 2008, NSC Smelter, LLC filed an application, pursuant to section 4(f) of the Federal Power Act (FPA), proposing to study the feasibility of the Cliffs Energy Pumped Storage Project to be located in Klickitat County, Washington partially on lands owned by the Department of the Army.

The proposed project would consist of: (1) An upper earthen dam with a length of 5,200 feet and height of 260 feet; (2) an upper reservoir with a surface area of 219 acres, a capacity of 14,000 acre-feet, and a maximum pool elevation of 2,436 feet msl; (3) a lower earthen dam with a length of 9,500 feet and a height of 120 feet; (4) a lower reservoir with a surface area of 209 acres, a capacity of 14,000 acre-feet, and a maximum pool elevation of 624 feet msl; (5) an 8,000 foot long, 25 foot diameter concrete penstock; (6) a powerhouse containing 4 pump/turbine units with a total installed capacity of 1,050 MW; ( 7) a 5 mile long, 500 kV transmission line and; (8) appurtenant facilities. The proposed project would have an annual production of 21 GWh which would be sold to a local utility.

Applicant Contact: Scott Tillman, 3313 West Second St., The Dalles, OR 97058, (541) 298-0819.

FERC Contact: Steven Sachs (202) 502-8666.

Deadline for filing comments, motions to intervene, competing applications (without notices of intent), or notices of intent to file competing applications: 60 days from the issuance of this notice.

Comments, motions to intervene, notices of intent and competing applications may be filed electronically via the internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13291) in the docket number field to access the document. For assistance, call toll-free 1-866-208-3372.

Kimberly D. Bose,
Secretary.

[FR Doc. E8-26193 Filed 11-3-08; 8:45 am]

BILLING CODE 6717-01-P